DEPARTMENT OF ENERGY

Federal Energy Regulatory Commission

[Docket No. IC24-2-000]

Commission Information Collection Activities (FERC-725R); Comment Request; Extention

AGENCY: Federal Energy Regulatory Commission.

ACTION: Notice of revision of information collection and request for comments.

SUMMARY: In compliance with the Paperwork Reduction Act, the Federal Energy Regulatory Commission (Commission or FERC) is soliciting public comment on revisions of the information collection FERC-725R (Mandatory Reliability Standards for the Bulk-Power System: BAL Reliability Standards).

DATES: Comments on the collection of information are due January 2, 2024.

ADDRESSES: Comments should be submitted to the Commission, in Docket No. IC24-2-000, by one of the following methods:

Electronic filing through https://www.ferc.gov is preferred.

• Electronic Filing: Documents must be filed in acceptable native applications and print-to-PDF, but not in scanned or picture format.

• For those unable to file electronically, comments may be filed by USPS mail or by hand (including courier) delivery:

○ Mail via U.S. Postal Service Only: Addressed to: Federal Energy Regulatory Commission, Secretary of the Commission, 888 First Street NE, Washington, DC 20426.

○ Hand (including courier) Delivery: Deliver to: Federal Energy Regulatory Commission, 12225 Wilkins Avenue, Rockville, MD 20852.

Instructions: All submissions must be formatted and filed in accordance with submission guidelines at http://www.ferc.gov. For user assistance, contact FERC Online Support by email at ferconlinesupport@ferc.gov, or by phone at: (866) 208-3676 (toll-free).

Docket: Users interested in receiving automatic notification of activity in this docket or in viewing/downloading comments and issuances in this docket may do so at http://www.ferc.gov/docs-filing/docs-filing.asp.

FOR FURTHER INFORMATION CONTACT: Ellen Brown may be reached by email at DataClearance@FERC.gov, and telephone at (202) 502-8663.

SUPPLEMENTARY INFORMATION:

Title: FERC-725R, Mandatory Reliability Standards for the Bulk-Power System: BAL Reliability Standards.

OMB Control No.: 1902-0268.

Type of Request: OMB renewal of the FERC-725R information collection requirements, with no changes to the requirements.

Abstract: The FERC 725R information collection includes four reliability standards.

• BAL-001-2, Real Power Balancing Control Performance; (effective July 1, 2016)

• BAL-002-3, Disturbance Control Standard—Contingency Reserve for Recovery from a Balancing Contingency Event; (effective April 1, 2019)

• BAL-003-2, Frequency Response and Frequency Bias Setting; (effective December 1, 2020)

• BAL-005-1, Balancing Authority Control. (effective January 1, 2019)

On August 8, 2005, Congress enacted into law the Electricity Modernization Act of 2005, which is title XII, subtitle A, of the Energy Policy Act of 2005 (EPAct 2005).¹ EPAct 2005 added a new section 215 to the Federal Power Act (FPA), which required a Commission-certified Electric Reliability Organization (ERO) to develop mandatory and enforceable Reliability Standards, which are subject to Commission review and approval. Once approved, any Reliability Standard may be enforced by the ERO subject to Commission oversight, or the Commission may independently enforce Reliability Standards.²

¹ Energy Policy Act of 2005, Public Law 109-58, title XII, subtitle A, 119 Stat. 594, 941 (codified at 16 U.S.C. 824o).

² 16 U.S.C. 824o(e)(3).

On February 3, 2006, the Commission issued Order No. 672, implementing section 215 of the FPA.³ Pursuant to Order No. 672, the Commission certified one organization, North American Electric Reliability Corporation (NERC), as the ERO.⁴ The Reliability Standards developed by the ERO and approved by the Commission apply to users, owners and operators of the Bulk-Power System as set forth in each Reliability Standard.

³ Rules Concerning Certification of the Electric Reliability Organization; and Procedures for the Establishment, Approval, and Enforcement of Electric Reliability Standards, Order No. 672, FERC Stats. & Regs. ¶ 31,204, order on reh'g, Order No. 672-A, FERC Stats. & Regs. ¶ 31,212 (2006).

⁴ North American Electric Reliability Corp., 116 FERC ¶ 61,062, order on reh'g and compliance, 117 FERC ¶ 61,126 (2006), order on compliance, 118 FERC ¶ 61,190, order on reh'g, 119 FERC ¶ 61,046 (2007), aff'd sub nom. Alcoa Inc. v. FERC, 564 F.3d 1342 (D.C. Cir. 2009).

This collection was last revised beginning on December 19, 2019 when NERC submitted for approval the proposed Reliability Standard BAL-003-2.

Types of Respondents: Balancing authorities and a Frequency Response Sharing Group (FRSG).

Estimate of Annual Burden: ⁵ The estimated burdens of the FERC 725R includes the Reliability Standards: BAL-001-2, BAL-002-3, BAL-003-2, and BAL-005-1.

⁵ Burden is defined as the total time, effort, or financial resources expended by persons to generate, maintain, retain, or disclose or provide information to or for a federal agency. See 5 CFR 1320 for additional information on the definition of information collection burden.

The requirements for each Reliability Standard go as follows:

BAL-001-2: Real Power Balancing Control Performance. Reliability Standard BAL-001-2 is designed to ensure that applicable entities balance generation and load by maintaining system frequency within narrow bounds around a scheduled value, and it improves reliability by adding a frequency component to the measurement of a Balancing Authority's Area Control Error (ACE).⁶

⁶ Area Control Error is the “instantaneous difference between a Balancing Authority's net actual and scheduled interchange, taking into accounts the effects of Frequency Bias, correction for meter error, and Automatic Time Error Correction (ATEC), if operating in the ATEC mode. ATEC is only applicable to Balancing Authorities in the Western Interconnection.” NERC Glossary.

BAL-002-3: Disturbance Control Standard—Contingency Reserve for Recovery from a Balancing Contingency Event. This standard ensures that a responsible entity, either a balancing authority or reserve sharing group, is able to recover from system contingencies by deploying adequate reserves to return their Area Control Error to defined values and replacing the capacity and energy lost due to generation or transmission equipment outages.

BAL-003-2: Frequency Response and Frequency Bias Setting. This standard requires sufficient Frequency Response from the Balancing Authority (BA) to maintain Interconnection Frequency within predefined bounds by arresting frequency deviations and supporting frequency until the frequency is restored.

BAL-005-1: Balancing Authority Control. This standard establishes requirements for acquiring data necessary to calculate Reporting Area Control Error (Reporting ACE). The standard also specifies a minimum periodicity, accuracy, and availability requirement for acquisition of the data and for providing the information to the System Operator. It requires balancing authorities to maintain minimum levels of annual availability of 99.5% for each balancing authority system for calculating Reporting ACE.

Our estimates are based on the NERC Compliance Registry as of September 22, 2023, which indicates that there are for unique US only 98 registered balancing authorities, 8 registered reserve sharing group (RSG) and 1 frequency response sharing group (FRSG).⁷

⁷ NERC Compliance Registry (September 22, 2023), available at https://www.nerc.com/pa/comp/Registration%20and%20Certification%20DL/NERC_Compliance_Registry_Matrix_Excel.xlsx.

Estimates for the average annual burden and cost ⁸ follow.

⁸ The hourly cost estimates are based on wage data from the Bureau of Labor Statistics for May 2022 (at https://www.bls.gov/oes/current/naics2_22.htm) and benefits data for Dec. 2022 (issued March 2023, at https://www.bls.gov/news.release/ecec.nr0.htm). The hourly costs (for wages and benefits) for reporting are: Electrical Engineer (Occupation code 17-2071), $77.29. The hourly costs (for wages and benefits) for evidence retention are: Information and Record Clerk (Occupation code 43-4199), $56.14.

FERC-725R
Function | Number & type of respondents | Number of annual responses per respondent | Total number of annual responses | Average burden hours & cost ($) per response | Total annual burden hours & total annual cost ($)
| (1) | (2) | (1) × (2) = (3) | (4) | (3) × (4) = (5)
BAL-001-2
BA Reporting Requirements | 98 | 1 | 98 | 8 hrs.; $618.32 | 784 hrs.; $60,595.36.
BA Recordkeeping Requirements | 98 | 1 | 98 | 4 hrs.; $224.56 | 392 hrs.; $22,006.88.
BAL-002-3
BA & RSG Reporting Requirements | 106 | 1 | 106 | 8 hrs.; $618.32 | 848 hrs.; $65,541.92.
BA & RSG Recordkeeping Requirements | 106 | 1 | 106 | 4 hrs.; $224.56 | 424 hrs.; $23,803.36.
BAL-003-2
BA & FRSG Reporting Requirements | 99 | 28 | 2,772 | 8 hrs.; $618.32 | 22,176 hrs.; $1,713,983.04.
BA & FRSG Recordkeeping Requirements | 99 | 1 | 99 | 2 hrs.; $112.28 | 198 hrs.; $11,115.72.
BAL-005-1
BA Reporting Requirements | 98 | 1 | 98 | 1 hr.; $77.29 | 98 hrs.; $7,574.42.
BA Recordkeeping Requirements | 98 | 1 | 98 | 1 hr.; $56.14 | 98 hrs.; $5,501.72.
SUB-TOTAL FOR REPORTING REQUIREMENTS |  |  |  |  | 23,906 hrs.; $1,847,694.74.
SUB-TOTAL FOR RECORDKEEPING REQUIREMENTS |  |  |  |  | 1,112 hrs.; $62,427.68.
TOTAL FOR FERC-725R (rounded) |  |  |  |  | 25,018 hrs.; $1,910,122.42.

Comments: Comments are invited on: (1) whether the collection of information is necessary for the proper performance of the functions of the Commission, including whether the information will have practical utility; (2) the accuracy of the agency's estimate of the burden and cost of the collection of information, including the validity of the methodology and assumptions used; (3) ways to enhance the quality, utility and clarity of the information collection; and (4) ways to minimize the burden of the collection of information on those who are to respond, including the use of automated collection techniques or other forms of information technology.

Dated: October 26, 2023.
Debbie-Anne A. Reese,
Deputy Secretary.

[FR Doc. 2023-24097 Filed 10-31-23; 8:45 am]

BILLING CODE 6717-01-P